INTERNATIONAL TRADE COMMISSION

[USITC SE-10-021]

Government in the Sunshine Act Meeting Notice

Agency holding the meeting: International Trade Commission.

Time and date: June 22, 2010 at 9:30 a.m.

Place: Room 101, 500 E Street, SW., Washington, DC 20436, Telephone: (202) 205-2000.

Status: Open to the public.

Matters To Be Considered 1. Agenda for future meetings: None.

2. Minutes.

3. Ratification list.

4. Inv. No. 731-TA-1070B (Review) (Certain Tissue Paper Products from China)—briefing and vote. (The Commission is currently scheduled to transmit its determinations and Commissioners' opinions to the Secretary of Commerce on or before July 1, 2010).

5. Outstanding action jackets: None.

In accordance with Commission policy, subject matter listed above, not disposed of at the scheduled meeting, may be carried over to the agenda of the following meeting.

Issued: June 14, 2010.
By order of the Commission.
William R. Bishop,
Hearings and Meetings Coordinator.

[FR Doc. 2010-15013 Filed 6-17-10; 11:15 am]

BILLING CODE 7020-02-P